OFFICE OF THE UNITED STATES TRADE REPRESENTATIVE

Request for Comments and Notice of Public Hearing Concerning China's Compliance With WTO Commitments

AGENCY: Office of the United States Trade Representative.

ACTION: Notice of public hearing and request for comments.

SUMMARY: The interagency Trade Policy Staff Committee (TPSC) will convene a public hearing and seek public comment to assist the Office of the United States Trade Representative (USTR) in the preparation of its annual report to the Congress on China's compliance with the commitments made in connection with its accession to the World Trade Organization (WTO).

DATES: If you want to testify at the hearing, you must provide written notification and a summary of your testimony by Wednesday, September 21, 2016. Written comments also are due by Wednesday, September 21, 2016. A hearing will be held in Washington DC on Wednesday, October 5, 2016.

ADDRESSES: You should submit notifications of intent to testify and written comments through the Federal eRulemaking Portal: http://www.regulations.gov. Follow the instructions for submitting comments in part 3 below. For alternatives to on-line submissions, please contact Yvonne Jamison, Trade Policy Staff Committee, at (202) 395-3475.

FOR FURTHER INFORMATION CONTACT: For procedural questions concerning written comments or participation in the public hearing, contact Yvonne Jamison at (202) 395-3475. Direct all other questions to Terrence J. McCartin, Deputy Assistant United States Trade Representative for China Enforcement, at (202) 395-3900, or Philip D. Chen, Chief Counsel for China Enforcement, at (202) 395-3150.

SUPPLEMENTARY INFORMATION:

1. Background

China became a Member of the WTO on December 11, 2001. In accordance with section 421 of the U.S.-China Relations Act of 2000 (Pub. L. 106-286), USTR is required to submit, by December 11 of each year, a report to Congress on China's compliance with commitments made in connection with its accession to the WTO, including both multilateral commitments and any bilateral commitments made to the United States. In accordance with section 421, and to assist it in preparing this year's report, the TPSC is soliciting public comments. Last year's report is available on USTR's Web site: https://ustr.gov/sites/default/files/2015-Report-to-Congress-China-WTO-Compliance.pdf.

The terms of China's accession to the WTO are contained in the Protocol on the Accession of the People's Republic of China (including its annexes) (Protocol), the Report of the Working Party on the Accession of China (Working Party Report), and the WTO agreements. The Protocol and Working Party Report can be found on the WTO Web site: http://docsonline.wto.org (document symbols: WT/L/432, WT/MIN(01)/3, WT/MIN(01)/3/Add.1, WT/MIN(01)/3/Add.2).

2. Public Comment and Hearing

USTR invites written comments and/or oral testimony of interested persons on China's compliance with commitments made in connection with its accession to the WTO, including, but not limited to, commitments in the following areas:

a. Trading rights;

b. import regulation (e.g., tariffs, tariff-rate quotas, quotas, import licenses);

c. export regulation;

d. internal policies affecting trade (e.g., subsidies, standards and technical regulations, sanitary and phytosanitary measures, government procurement, trade-related investment measures, taxes and charges levied on imports and exports);

e. intellectual property rights (including intellectual property rights enforcement);

f. services;

g. rule of law issues (e.g., transparency, judicial review, uniform administration of laws and regulations) and status of legal reform; and

h. other WTO commitments.

In addition, given the United States' view that China should be held accountable as a full participant in, and beneficiary of, the international trading system, USTR requests that interested persons specifically identify unresolved compliance issues that warrant review and evaluation by USTR's China Enforcement Task Force.

You must submit written comments no later than Wednesday, September 21, 2016.

A hearing will be held on Wednesday, October 5, 2016, in Room 1, 1724 F Street NW., Washington DC 20508. If necessary, the hearing will continue on the next business day. Persons wishing to testify orally at the hearing must provide written notification of their intention by Wednesday, September 21, 2016. The intent to testify notification must be made in the “Type Comment” field under docket number USTR-2016-0012 on the regulations.gov Web site and should include the name, address and telephone number of the person presenting the testimony. You should attach a summary of the testimony by using the “Upload File” field. The name of the file also should include who will be presenting the testimony. Remarks at the hearing should be limited to no more than five minutes to allow for possible questions from the TPSC.

You should submit all documents in accordance with the instructions in section 3 below.

3. Requirements for Submissions

Persons submitting a notification of intent to testify and/or written comments must do so in English and must identify (on the first page of the submission) “China's WTO Compliance.”

In order to ensure the timely receipt and consideration of comments, USTR strongly encourages commenters to make on-line submissions, using the www.regulations.gov Web site. To submit comments via www.regulations.gov, enter docket number USTR-2016-0012 on the home page and click “search.” The site will provide a search-results page listing all documents associated with this docket. Find a reference to this notice and click on the link entitled “Comment Now!” (For further information on using the www.regulations.gov Web site, please consult the resources provided on the Web site by clicking on “How to Use This Site” on the left side of the home page.)

The www.regulations.gov Web site allows users to provide comments by filling in a “Type Comment” field, or by attaching a document using an “Upload File” field. USTR prefers that comments be provided in an attached document. If a document is attached, it is sufficient to type “See attached” in the “Type Comment” field. USTR prefers submissions in Microsoft Word (.doc) or Adobe Acrobat (.pdf). If the submission is in a different application, please indicate the name of the application in the “Type Comment” field.

For any comments submitted electronically containing business confidential information, the file name of the business confidential version should begin with the characters “BC.” Any page containing business confidential information must be clearly marked “BUSINESS CONFIDENTIAL” on the top of that page. Filers of submissions containing business confidential information must also submit a public version of their comments. The file name of the public version should begin with the character “P.” The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted above, USTR strongly urges submitters to file comments through www.regulations.gov. Any alternative arrangements must be made with Yvonne Jamison in advance of transmitting the comments. You can contact Ms. Jamison at (202) 395-3475. General information concerning USTR is available at www.ustr.gov.

Comments will be placed in the docket and open to public inspection, except business confidential information. Comments may be viewed on the www.regulations.gov Web site by entering the relevant docket number in the search field on the home page.

Edward Gresser,
Chair of the Trade Policy Staff Committee, Office of the United States Trade Representative.

[FR Doc. 2016-19413 Filed 8-15-16; 8:45 am]

BILLING CODE 3290-F6-P